DEPARTMENT OF HEALTH AND HUMAN SERVICES

National Institutes of Health

Center for Scientific Review; Amended Notice of Meeting

Notice is hereby given of a change in the meeting of the Center for Scientific Review Special Emphasis Panel, March 23, 2001, 8:30 am to March 23, 2001, 5:30 p.m., NIH, Rockledge 2, Bethesda, MD 20892 which was published in the Federal Register on March 14, 2001, 66 FR 14915-14917.

The meeting will be held at the Hyatt Regency Hotel, One Bethesda Metro Center, Bethesda, MD. The date and times remain the same. The meeting is closed to the public.

Dated: March 19, 2001.
LaVerne Y. Stringfield,
Director, Office of Federal Advisory Committee Policy.

[FR Doc. 01-7479 Filed 3-26-01; 8:45 am]

BILLING CODE 4140-01-M